SMALL BUSINESS ADMINISTRATION

[License No. 04/74-0289]

Chrysalis Ventures II, L.P.; Notice Seeking Exemption Under Section 312 of the Small Business Investment Act, Conflicts of Interest

Notice is hereby given that Chrysalis Ventures II, L.P., 1650 National City Tower, 101 South Fifth Street, Louisville, KY 40202, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2002)). Chrysalis Ventures II, L.P. proposes to provide preferred equity security financing to RAD Technologies LLC, 2655 Park Center Drive, Simi Valley, California 93065. The financing is contemplated to be used by the company for working capital purposes and to make acquisitions.

The financing is brought within the purview of Sec. 107.730(a)(1) of the Regulations because Robert L. Saunders, a Principal and an Associate of Chrysalis Ventures II, L.P., has a 14.6% voting ownership interest in RAD. Therefore, this transaction is considered a financing of an Associate requiring prior SBA approval.

Notice is hereby given that any interested person may submit written comments on the transaction, within 15 days of the date of this publication, to the Associate Administrator for Investment, U.S. Small Business Administration, 409 Third Street, SW., Washington, DC 20416.

Dated: June 21, 2005.
Jaime A. Guzmán-Fournier,
Associate Administrator for Investment.

[FR Doc. 05-12672 Filed 6-24-05; 8:45 am]

BILLING CODE 8025-01-P